DEPARTMENT OF HEALTH AND HUMAN SERVICES

National Institutes of Health

National Institute on Aging Amended; Notice of Meeting

Notice is hereby given of a change in the meeting of the National Institute on Aging Special Emphasis Panel, October 3, 2013, 1:00 p.m. to October 3, 2013, 3:00 p.m., DoubleTree by Hilton Hotel Bethesda, 8120 Wisconsin Avenue, Bethesda, MD, 20814 which was published in the Federal Register on September 10, 2013, 55265-55266 FR 175.

Meeting will be held November 20, 2013 from 12 p.m. to 3 p.m. at the National Institute on Aging, 7201 Wisconsin Avenue, Suite 2C212, Bethesda, MD 20892. The meeting is closed to the public.

Dated: November 4, 2013.
Melanie J. Gray,
Program Analyst, Office of Federal Advisory Committee Policy.

[FR Doc. 2013-26907 Filed 11-8-13; 8:45 am]

BILLING CODE 4140-01-P